DEPARTMENT OF DEFENSE

Department of the Army

Performance Review Boards Membership

AGENCY: Department of the Army, DoD.

ACTION: Notice.

SUMMARY: Notice is given of the names of members of a Performance Review Board for the Department of the Army.

DATES: Effective Date: December 11, 2004.

FOR FURTHER INFORMATION CONTACT: Marilyn Ervin, U.S. Army Senior Executive Service Office, Assistant Secretary of the Army, Manpower & Reserve Affairs, 111 Army, Washington, DC 20301-0111.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Performance Review Board for the U.S. Army Corps of Engineers are:

1. MG Robert Griffin (Chair), Deputy Commanding General.

2. Dr. James Houston, Director, Engineer Research and Development Center.

3. BG Robert Crear, Commander, Mississippi Valley Division.

4. MG Don Riley, Director, Directorate of Civil Works.

5. Mr. Dwight Beranek, Deputy Director, Directorate of Military Programs.

6. Dr. Susan Duncan, Director of Human Resources.

7. Mr. Stephen Browning, Programs Director, South Pacific Division.

8. Mr. Frank Oliva, Regional Business Director, Pacific Ocean Division.

9. Ms. Kristine Allaman, Director, Strategy and Integration Directorate.

Brenda S. Bowen,
Army Federal Register Liaison Officer.

[FR Doc. 04-27269 Filed 12-10-04; 8:45 am]

BILLING CODE 3710-08-M